DEPARTMENT OF ENERGY

Federal Energy Regulatory Commission

[Project No. 3025-031]

Green Mountain Power Corporation; Notice of Effectiveness of Withdrawal of License Application

On March 30, 2022, Green Mountain Power Corporation (GMP) filed a relicense application for the 450-kilowatt Kelley's Falls Hydroelectric Project No. 3025. On December 29, 2022, GMP filed a notice of withdrawal of its application.

No motion in opposition to the notice of withdrawal has been filed, and the Commission has taken no action to disallow the withdrawal. Pursuant to Rule 216(b) of the Commission's Rules of Practice and Procedure,¹ the withdrawal of the application became effective on January 13, 2023, and this proceeding is hereby terminated.

¹ 18 CFR 385.216(b) (2022).

Dated: January 17, 2023.
Kimberly D. Bose,
Secretary.

[FR Doc. 2023-01253 Filed 1-23-23; 8:45 am]

BILLING CODE 6717-01-P